DEPARTMENT OF HEALTH AND HUMAN SERVICES

Centers for Disease Control and Prevention

[60 Day-04-55]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Dale Verell, CDC Assistant OMB Clearance Officer, 1600 Clifton Road, MS-E11, Atlanta, GA 30333, or through the Internet at omb@cdc.gov. Written comments should be received within 60 days of this notice.

Proposed Project: Evaluation of the First Round of Community-Based and Participatory Research Funding Offered through CDC's Extramural Prevention Research Program (formerly known as the Prevention Research Initiative)—New—Public Health Practice Program Office (PHPPO), Centers for Disease Control and Prevention (CDC).

Two of the current priorities of CDC are to (1) substantially increase CDC's extramural public health research portfolio and budget and (2) develop a more client-oriented or customer-focused approach in all of CDC's activities. As part of its strategy to strengthen and expand extramural public health research, CDC received new money from Congress in 1999 to establish an extramural prevention research program. This program would focus on linking the talents and skills of university-based scientists with the resources of health departments, community-based programs, and national organizations in order to try to better respond to the health needs of individual communities.

Through its first round, the Extramural Prevention Research Program (EPRP), then known as the Prevention Research Initiative, provided $12.5 million in funding annually to support 56 three-year research projects based in states and localities throughout the country. The topics of these research projects were as diverse as asthma, traumatic brain injuries, tobacco control, workplace safety, and health disparities. All of the projects were community-based, and approximately one-third used a participatory approach in which, rather than just having community members be subjects of the research as is the usual case, researchers were to engage members of the community being studied (i.e., those who were expected to be the users of the research findings) in the research process itself. It is believed that engaging the users in the research will make it more likely that the research undertaken will address their actual needs and that they will be more likely to apply the research findings.

Because of this commitment, CDC and many other federal and non-federal funding agencies are very interested in funding participatory research. Yet, anecdotal information and findings from an evaluation project conducted elsewhere at CDC by one EPRP staff member have suggested that funding programs may need to adjust their expectations, requirements, and communication strategies if they want to attract and adequately support the conduct of participatory research projects, and if they want to best support the dissemination and translation into practice of research findings. Therefore, this project will involve conducting one-on-one, semi-structured, open-ended qualitative interviews with the principal investigators of the grants funded in the first round of the EPRP in order to learn how CDC can best support community-based and participatory research, and how it can best participate in the dissemination and translation of the studies' findings into practice. There is no cost to respondents.

Respondents | Number of respondents | Number of responses/ respondent | Average burden/ response (in hrs.) | Total burden (in hrs.)
Principal Investigators funded through the first round of the EPRP who self-report that they used a participatory research approach | 30 | 1 | 45/60 | 23
Principal Investigators funded through the first round of the EPRP who self-report that they did not use a participatory research approach | 26 | 1 | 30/60 | 13
Total | 56 |  |  | 36

Dated: May 24, 2004.
Joseph E. Salter,
Acting Director, Management Analysis and Services Office, Centers for Disease Control and Prevention.

[FR Doc. 04-12235 Filed 5-28-04; 8:45 am]

BILLING CODE 4163-18-P